DEPARTMENT OF THE INTERIOR

National Park Service

[NPS-SER-FORA-0419-10126: PPSESEROC3, PMP00UP05.YP0000]

Draft General Management Plan and Draft Environmental Impact Statement, Fort Raleigh National Historic Site, North Carolina

AGENCY: National Park Service, Interior.

ACTION: Notice of availability.

SUMMARY: Pursuant to the National Environmental Policy Act of 1969, 42 U.S.C. 4332(2)(C), the National Park Service announces the availability of a Draft Environmental Impact Statement for the General Management Plan (EIS/GMP) for Fort Raleigh National Historic Site, North Carolina. The draft describes and analyzes several alternatives to guide the management of the site over the next 15 to 20 years. The NPS preferred alternative incorporates various management prescriptions to ensure access to and protection and enjoyment of the monument's resources.

DATES: We will accept comments for a period of 60 days following publication of the Environmental Protection Agency's notice of availability in the Federal Register. We will announce the dates, times, and locations of public meetings on the draft EIS/GMP through the NPS Planning, Environment, and Public Comment (PEPC) Web site: http://parkplanning.nps.gov/FORA and media outlets.

ADDRESSES: You may submit comments by the following methods:

• Via the internet on the PEPC Web site http://parkplanning.nps.gov/FORA. An electronic public comment form is provided on this Web site.

• Via mail to Superintendent, Fort Raleigh National Historic Site, 1401 National Park Drive, Manteo, NC 27954.

• Via hand delivery to the above address.

Electronic copies of the Draft EIS/GMP will be available online at http://parkplanning.nps.gov/FORA. A limited number of compact disks and printed copies will be also available at the National Historic Site park headquarters at 1401 National Park Drive.

FOR FURTHER INFORMATION CONTACT: Superintendent Barclay Trimble, Fort Raleigh National Historic Site, 1401 National Park Drive, Manteo, NC 27954 or telephone at (252) 473-2111, ext. 148.

SUPPLEMENTARY INFORMATION: Public meetings, newsletters, and internet updates have kept the public informed and involved throughout the planning process. The Draft EIS/GMP provides a framework for management, use, and development of the National Historic Site for the next 15 to 20 years. It presents and analyzes three alternatives:

• Alternative A (no action) provides a baseline for evaluating changes and impacts of the two action alternatives.

• Alternative B would greatly expand the scope of the National Historic Site's partnerships through greater partner involvement in interpretation of the Roanoke Voyages. The NPS staff would interpret other National Historic Site stories. This alternative encourages more on-site experiences through partnerships and through additional interpretive efforts, marketing, and facilities.

• Alternative C, the NPS preferred alternative, would increase our research on the site's history, archeology, inhabitants and events with emphasis on interpretive themes and preservation. As a result of our expanded research and coordination with other research organizations and agencies, visitors would benefit by gaining increased knowledge of the National Historic Site and its multiple cultural and natural themes. This alternative would respond to the mandates of Public Law 101-603, which broadened the interpretive and resource preservation purpose of the National Historic Site.

The three alternatives are described in detail in chapter 2 of the Draft EIS/GMP. Chapter 4 details the key impacts of implementing the three alternatives.

Before including your address, phone number, email address, or other personal identifying information in your comment, please be aware that your entire comment—including your personal identifying information—may be made publicly available at any time. While you can ask us in your comment to withhold your personal identifying information from public review, we cannot guarantee that we will be able to do so.

Dated: March 25, 2013.
Gordon Wissinger,
Acting Regional Director, Southeast Region.

[FR Doc. 2013-07601 Filed 4-1-13; 8:45 am]

BILLING CODE 4310-JD-P